FEDERAL MARITIME COMMISSION

[Petition No. P1-18]

Petition of Cosco Shipping Lines Co., Ltd., Cosco Shipping Lines (Europe) Gmbh, Orient Overseas Container Line Limited, and OOCL (Europe) Limited for an Exemption From Agreement Filing; Notice of Filing and Request for Comments

Notice is hereby given that COSCO Shipping Lines Co., Ltd. (“COSCO”), COSCO Shipping Lines (Europe) GMBH, Orient Overseas Container Line Limited, and OOCL (Europe) Limited (“Petitioners”), have petitioned the Commission pursuant to 46 U.S.C. 40103(a), 46 CFR 502.92, and 46 CFR 535.301, “. . . for an exemption from the Shipping Act that would extend the P2-17 Order to COSCO (Europe)” and “would permit [Petitioners] to enter into agreements . . . without filing an agreement and waiting for it to become effective.” The Petitioners state that when the Commission granted the Petition of COSCO, Orient Overseas Container Line Limited and OOCL (Europe) Limited (collectively “OOCL”) to an exemption from Agreement Filing on August 8, 2018 in the P2-17 proceeding that the “. . . wholly-owned subsidiary of COSCO known as COSCO Shipping Lines (Europe) Gmbh (FMC Org. No. 025509) . . . had not yet commenced operating as a vessel-operating common carrier in the U.S. foreign trades.”

In order for the Commission to make a thorough evaluation of the exemption requested in the Petition, pursuant to 46 CFR 502.92, interested parties are requested to submit views or arguments in reply to the Petition no later than September 6, 2018. Replies shall be sent to the Secretary by email to Secretary@fmc.gov or by mail to Federal Maritime Commission, 800 North Capitol Street NW, Washington, DC 20573-0001, and replies shall be served on Petitioners' counsels, Robert B. Yoshitomi, Nixon Peabody LLP, 300 South Grand Avenue, Suite 4100, Los Angeles, CA 90071-3151, ryoshitomi@nixonpeabody.com, and Eric C. Jeffrey, 799 9th Street NW, Suite 500, Washington, DC 20001-5327, ejeffrey@nixonpeabody.com.

Non-confidential filings may be submitted in hard copy to the Secretary at the above address or by email as a PDF attachment to Secretary@fmc.gov and include in the subject line: P1-18 (Commenter/Company). Confidential filings should not be filed by email. A confidential filing must be filed with the Secretary in hard copy only, and be accompanied by a transmittal letter that identifies the filing as “Confidential-Restricted” and describes the nature and extent of the confidential treatment requested. The Commission will provide confidential treatment to the extent allowed by law for confidential submissions, or parts of submissions, for which confidentiality has been requested. When a confidential filing is submitted, there must also be submitted a public version of the filing. Such public filing version shall exclude confidential materials, and shall indicate on the cover page and on each affected page “Confidential materials excluded.” Public versions of confidential filings may be submitted by email. The Petition will be posted on the Commission's website at http://www.fmc.gov/P1-18. Replies filed in response to the Petition will also be posted on the Commission's website at this location.

Rachel Dickon,
Secretary.

[FR Doc. 2018-18244 Filed 8-22-18; 8:45 am]

BILLING CODE 6731-AA-P